DEPARTMENT OF HEALTH AND HUMAN SERVICES

Administration on Aging

[Program Announcement No. AoA-04-06]

Fiscal Year 2004 Program Announcement; Availability of Funds and Notice Regarding Applications

AGENCY: Administration on Aging, HHS.

ACTION: Announcement of availability of funds and request for applications for the Livable Communities Initiative.

SUMMARY: The Administration on Aging announces that under this program announcement it will hold a competition for a grant award for one project at a Federal share of approximately $125,000, for a project period of one year.

Legislative authority: The Older Americans Act, Public Law 106-501 (Catalog of Federal Domestic Assistance 93.048, Title IV and Title II, Discretionary Projects).

Purpose of grant awards: The purpose of this project is to identify and showcase communities that best meet the criteria of a livable community, and to highlight promising practices that can be used by county and municipal governments throughout the country in preparing for the aging of the baby boom population. The award will be a cooperative agreement because the Administration on Aging will be substantially involved in the development and execution of the activities of the projects. The applicant and the Administration on Aging will work cooperatively to develop the criteria upon which the model communities will be selected and to clarify the issues to be addressed by the project. Awardee activities for this initiative are as follows:

a. Working collaboratively with AoA to develop the criteria upon which the model communities will be selected.

b. Conducting a competitive process to identify the top eight models of Livable Communities for All Ages.

c. Developing a written manual consisting of case study descriptions of the models, along with other relevant technical assistance materials.

d. Drafting an action plan that county and municipal governments can implement in replicating successful models of livable communities, and that can serve as a framework for discussion at the 2005 White House Conference on Aging.

AoA activities for this initiative will include:

a. Working collaboratively with the grantee to develop criteria upon which the model communities will be selected.

b. Providing input for the plan.

c. Reviewing and commenting on the manual and related technical assistance materials.

Eligibility for grant awards and other requirements: Eligibility for grant awards is limited to national nonprofit and faith-based organizations with a demonstrated expertise in developing a framework or action plan that can be easily implemented through county and municipal governments. Grantees are required to provide at least 25 percent of the total program costs from non-federal cash or in-kind resources in order to be considered for the award. Executive Order 12372 is not applicable to these grant applications.

Screening criteria: All applications will be screened to assure a level playing field for all applicants. Applications that fail to meet the screening criteria described below will not be reviewed and will receive no further consideration:

1. Postmark Requirements—Applications must be postmarked by midnight of the deadline date indicated below, or hand-delivered by 5:30 p.m. eastern time, on that date, or submitted electronically by midnight on that date.

2. Organizational Eligibility—Eligibility for grant awards is limited to national nonprofit and faith-based organizations with a demonstrated expertise in developing a framework or action plan that can be easily implemented through county and municipal governments.

3. Responsiveness to Priority Area Description—Applications will be screened on whether the application is responsive to the priority area description.

4. Project Narrative—The Project Narrative must be double-spaced on single-sided 8.5″ by 11″ plain white paper with a 1″ margin on each side and a font size of not less than 11. You can use smaller font sizes to fill in the standard forms and sample formats. The suggested length of the narrative is 10 to 20 pages; 20 pages is the maximum length allowed. AoA will not accept applications with a project narrative that exceeds 20 pages, excluding the project work plan grid, letters of cooperation and vitae of key personnel.

Review of applications: Applications will be evaluated against the following criteria: Purpose and Need for Assistance (20 points); Approach/Method—Workplan and Activities (30 points); Outcomes/Benefits/Impacts (20 points); and Level of Effort, Program Management, and Organizational Capacity (30 points).

DATES: The deadline date for the submission of applications is August 18, 2004.

ADDRESSES: Application kits are available by writing to the U.S. Department of Health and Human Services, Administration on Aging, Office for Community-Based Services, Washington, DC 20201, by calling 202/357-3520, or online at http://www.grants.gov.

Applications may be mailed to the U.S. Department of Health and Human Services, Administration on Aging, Office of Grants Management, Washington, DC 20201, attn: Margaret Tolson (AoA-04-06).

Applications may be delivered to the U.S. Department of Health and Human Services, Administration on Aging, Office of Grants Management, One Massachusetts Avenue, NW., Room 4604, Washington, DC 20001, attn: Margaret Tolson (AoA-04-06).

If you elect to mail or hand deliver your application you must submit one original and two copies of the application; an acknowledgement card will be mailed to applicants. Instructions for electronic mailing of grant applications are available at http://www.grants.gov.

SUPPLEMENTARY INFORMATION: All grant applicants are required to obtain a D-U-N-S number from Dun and Bradstreet. It is a nine-digit identification number, which provides unique identifiers of single business entities. The D-U-N-S number is free and easy to obtain from http://eupdate.dnb.com/requestoptions.html.

FOR FURTHER INFORMATION CONTACT: U.S. Department of Health and Human Services, Administration on Aging, Office of Grants Management, Washington, DC 20201, telephone: (202) 357-3440.

Dated: July 14, 2004.
Josefina G. Carbonell,
Assistant Secretary for Aging.

[FR Doc. 04-16350 Filed 7-16-04; 8:45 am]

BILLING CODE 4154-01-P